CHEMICAL SAFETY AND HAZARD INVESTIGATION BOARD

Sunshine Act Meeting

The U.S. Chemical Safety and Hazard Investigation Board announces that it will convene a Public Meeting beginning at 10 a.m. local time on June 25, 2003, at the Wyndham City Center Hotel, 1143 New Hampshire Avenue, NW., Washington, DC 20037. The Board will consider: a staff update on current investigations, review a bulletin on the dangers of nitrogen asphyxiation; review the status of recommendations made in prior CSB investigations; discuss the possibility of future hazard studies; hear a status report on the CSB redesign of its web site; discuss the reactives roundtable meeting held on June 10, 2003; and finally, review and possibly vote on the agency's revised five-year Strategic Plan.

Recommendations are issued by a vote of the Board and address an identified safety deficiency uncovered during the investigation, and specify how to correct the situation. Safety recommendations are the primary tool used by the Board to motivate implementation of safety improvements and prevent future incidents. The CSB uses its unique independent accident investigation perspective to identify trends or issues that might otherwise be overlooked. CSB recommendations may be directed to corporations, trade associations, government entities, safety organizations, labor unions and others. For an update on the status of all outstanding recommendations, go to the CSB Web site at http://www.csb.gov.

All staff presentations are preliminary and are intended solely to allow the Board to consider in a public forum the relevant issues and factors.

The meeting is open to the public. Please notify the CSB if a translator or interpreter is needed 5 business days prior to the public meeting. For more information, please contact Dan Horowitz at 202-261-7613.

Christopher W. Warner,
General Counsel.

[FR Doc. 03-15276 Filed 6-12-03; 2:36 pm]

BILLING CODE 6350-01-P